DEPARTMENT OF TRANSPORTATION

Federal Aviation Administration

Advisory Circular 120-16E, Air Carrier Maintenance Programs

AGENCY: Federal Aviation Administration (FAA) DOT.

ACTION: Notice of availability.

SUMMARY: This notice announces the issuance and availability of Advisory Circular (AC) 120-16E, “Air Carrier Maintenance Programs”. This advisory circular (AC) is an update of AC 120-16D that was issued in 2003. It describes the scope, content, and functions of air carrier aircraft maintenance programs. It explains the background of these programs as well as the Federal Aviation Administration's regulatory requirements. Each of the 10 elements of air carrier maintenance programs is also described and explained. The material in this AC is not mandatory and does not constitute a regulation. However, when “must” or “will” are used in this AC, such use reflects actual regulatory requirements.

DATES: Advisory Circular 120-16E, Air Carrier Maintenance Programs was issued by the Office of the Director, Flight Standards Service, AFS-1 on September 11, 2008.

FOR FURTHER INFORMATION CONTACT: Russell S. Unangst, Jr., Technical Advisor, Airworthiness, AFS-305, Federal Aviation Administration, Aircraft Maintenance Division, Flight Standards Service, 800 Independence Ave., SW., Washington, DC 20591; telephone (202) 267-3786; facsimile (202) 267-5115, e-mail russell.unangst@faa.gov.

SUPPLEMENTARY INFORMATION: How to obtain a copy of this AC.

How To Obtain Copies: This AC can be read or downloaded from the Internet at http://rgl.faa.gov/ under the “Advisory Circular” hyperlink. Paper copies of this AC will be available in approximately 6-8 weeks from the U.S. Department of Transportation, Subsequent Distribution Office, SVC-121.23, Ardmore East Business Center, 3341Q 75th Avenue, Landover, MD 20785.

Issued in Washington, DC, on September 17, 2008.
Carol E. Giles,
Manager, Aircraft Maintenance Division, Flight Standards Service.

[FR Doc. E8-22630 Filed 9-25-08; 8:45 am]

BILLING CODE 4910-13-P